DEPARTMENT OF ENERGY

Federal Energy Regulatory Commission

[Docket No. RP99-518-047]

PG&E Gas Transmission, Northwest Corporation; Notice of Negotiated Rate

August 6, 2003.

Take notice that on August 1, 2003, PG&E Gas Transmission, Northwest Corporation (GTN) tendered for filing to be part of its FERC Gas Tariff, Second Revised Volume No. 1-A, Substitute Fourteenth Rev. Sheet No. 15, Substitute Fifteenth Rev. Sheet No. 15 and Sixteenth Revised Sheet No. 15.

GTN states that these sheets are being filed to reflect that a negotiated rate agreement, inadvertently eliminated in a prior filing, has been extended on a monthly basis through the end of August 2003 pursuant to evergreen language contained in the agreement. GTN requests that the Commission accept the proposed tariff sheets to be effective as indicated on each individual sheet—June 1, 2003, July 1, 2003 and August 1, 2003, respectively.

GTN further states that a copy of this filing has been served on GTN's jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 13, 2003.

Magalie R. Salas,
Secretary.

[FR Doc. 03-20636 Filed 8-12-03; 8:45 am]

BILLING CODE 6717-01-P